SECURITIES AND EXCHANGE COMMISSION

17 CFR Parts 200 and 201

[Release No. 34-83325]

Technical Amendments to Rules of Practice and Rules of Organization; Conduct and Ethics; and Information and Requests

AGENCY: Securities and Exchange Commission.

ACTION: Final rule; technical amendments.

SUMMARY: The Securities and Exchange Commission (“SEC” or “Commission”) is making technical amendments to certain rules of organization and rules of practice to indicate that Commission materials will no longer be compiled and published as the “SEC Docket” (“SEC Docket” or “Docket”), but will continue to be available on the SEC public website.

DATES: Effective Date: June 1, 2018.

FOR FURTHER INFORMATION CONTACT: Hannah Riedel, Senior Counsel, (202) 551-5150, Office of the General Counsel, Securities and Exchange Commission or J. Lynn Taylor, Assistant Secretary, (202) 551-5400, Office of the Secretary, 100 F Street NE, Washington, DC 20549-9150.

SUPPLEMENTARY INFORMATION:

I. Background

In 1972, the Commission began compiling and publishing Commission orders and rulemaking releases in an SEC Docket for weekly dissemination to the public. The Commission has determined that publishing the SEC Docket is no longer a cost-efficient way to disseminate information to the public because all materials appearing in the SEC Docket have already been posted upon release on the SEC public website at www.sec.gov.

In 2013, facing increases in publication costs and dwindling subscription numbers, the Commission began publishing the Docket electronically on the SEC website. Producing and posting the SEC Docket electronically continues to require significant staff resources. The Office of the Secretary estimates that approximately 600 staff hours are expended annually to prepare the Docket. Moreover, with Docket materials already posted elsewhere on the website several weeks before the Docket is completed and published, the Docket generally receives less than 0.01% of all SEC website traffic.

Accordingly, the Commission plans to immediately discontinue publication of the SEC Docket but to continue posting these materials on the SEC website in real time. In light of this change, the Commission is adopting technical amendments to Title 17, Chapter II of the Code of Federal Regulations to eliminate references to the SEC Docket and, where appropriate, replace references to the SEC Docket with references to the SEC website.

II. Administrative Law Matters

The Commission finds, in accordance with the Administrative Procedure Act (“APA”), that these revisions relate solely to agency organization, procedures, or practice and do not constitute a substantive rule. Accordingly, the APA's provisions regarding notice of rulemaking, opportunity for public comment, and advance publication of the amendments are not applicable.¹ For the same reason, and because these amendments do not affect the rights or obligations of non-agency parties, the provisions of the Small Business Regulatory Enforcement Fairness Act are not applicable.² Additionally, the provisions of the Regulatory Flexibility Act, which apply only when notice and comment are required by the APA or other law, are not applicable.³ These amendments do not contain any collection of information requirements as defined by the Paperwork Reduction Act of 1995.⁴ Further, because the amendments impose no new burdens on private parties, the Commission does not believe that the amendments will have any impact on competition for purposes of Section 23(a)(2) of the Exchange Act.⁵

¹ 5 U.S.C. 553.

² 5 U.S.C. 804(3)(C).

³ 5 U.S.C. 601 et seq.

⁴ 44 U.S.C. 3501 et. seq.

⁵ 15 U.S.C. 78w.

III. Statutory Authority

These technical amendments are adopted pursuant to statutory authority granted to the Commission under Section 23(a) of the Exchange Act.

List of Subjects in 17 CFR Parts 200 and 201

Administrative practice and procedure.

Text of Amendments

For the reasons set out above, the Commission is amending Title 17, Chapter II of the Code of Federal Regulations as follows:

PART 200—ORGANIZATION; CONDUCT AND ETHICS; AND INFORMATION AND REQUESTS

Subpart D—Information and Requests

1. The authority citation for Part 200, Subpart D, continues to read in part as follows:

Authority: 5 U.S.C. 552, as amended, 15 U.S.C. 77f(d), 77s, 77ggg(a), 77sss, 78m(F)(3), 78w, 80a-37, 80a-44(a), 80a-44(b), 80b-10(a), and 80b-11, unless otherwise noted.

* * * * *

2. Section 200.80 is amended by revising paragraphs (a)(2) introductory text, (c)(1)(ii), and (e)(8)(ii) to read as follows:

§ 200.80 Commission records and information.

(a) * * *

(2) Records available for public inspection and copying; documents published and indexed. Except as provided in paragraph (b) of this section, the following materials are available for public inspection and copying from 10 a.m. to 3 p.m., E.T., at the public reference room located at 100 F Street NE, Washington, DC.

* * * * *

(c)(1) * * *

(ii) All regional offices of the Commission have available for public examination the materials set forth in paragraph (a)(2) of this section and the SEC News Digest and other SEC publications. Blank forms as well as other general information about the operations of the Commission described in paragraph (a)(1) of this section may also be available at particular regional offices.

* * * * *

(e) * * *

(8) * * *

(ii) The Commission publishes daily the SEC News Digest, which summarizes the releases published by the Commission each day, contains Commission announcements, and lists certain filings with the Commission.

* * * * *

3. Section 200.80b is revised to read as follows:

§ 200.80b Appendix B—SEC releases.

Free mailing list distribution of releases has been discontinued by the Commission because of rising costs and staff limitations. However, the texts of all releases under the various Acts, the corporate reorganization releases, and the litigation releases are available on the SEC website. Statistical series releases are contained in the SEC Monthly Statistical Review, which may be purchased through the Superintendent of Documents as described in § 200.80c.

PART 201—RULES OF PRACTICE

Subpart D—Rules of Practice

4. The authority citation for Part 201, Subpart D, continues to read as follows:

Authority: 15 U.S.C. 77f, 77g, 77h, 77h-1, 77j, 77s, 77u, 77sss, 77ttt, 78c(b), 78d-1, 78d-2, 78l, 78m, 78n, 78o(d), 78o-3, 78s, 78u-2, 78u-3, 78v, 78w, 80a-8, 80a-9, 80a-37, 80a-38, 80a-39, 80a-40, 80a-41, 80a-44, 80b-3, 80b-9, 80b-11, 80b-12, 7202, 7215, and 7217.

5. Section 201.360 is amended by revising paragraphs (c) and (d)(2) to read as follows:

§ 201.360. Initial decision of hearing officer and timing of hearing.

* * * * *

(c) Filing, service and publication. The Secretary shall promptly serve the initial decision upon the parties and shall promptly publish notice of the filing thereof on the SEC website; provided, however, that in nonpublic proceedings no notice shall be published unless the Commission otherwise directs.

(d) * * *

(2) If a party or aggrieved person entitled to review fails to file timely a petition for review or a motion to correct a manifest error of fact in the initial decision, and if the Commission does not order review of a decision on its own initiative, the Commission will issue an order that the decision has become final as to that party. The decision becomes final upon issuance of the order. The order of finality shall state the date on which sanctions, if any, take effect. Notice of the order shall be published on the SEC website.

Subpart F—Fair Fund and Disgorgement Plans

6. The authority citation for Part 201, Subpart F, continues to read as follows:

Authority: 15 U.S.C. 77h-1, 77s, 77u, 78c(b), 78d-1, 78d-2, 78u-2, 78u-3, 78v, 78w, 80a-9, 80a-37, 80a-39, 80a-40, 80b-3, 80b-11, 80b-12, and 7246.

7. Section 201.1103 is revised to read as follows:

§ 201.1103 Notice of proposed plan and opportunity for comment by non-parties.

Notice of a proposed plan of disgorgement or a proposed Fair Fund plan shall be published on the SEC website and in such other publications as the Commission or the hearing officer may require. The notice shall specify how copies of the proposed plan may be obtained and shall state that persons desiring to comment on the proposed plan may submit their views, in writing, to the Commission.

By the Commission.
Dated: May 24, 2018.
Brent J. Fields,
Secretary.

[FR Doc. 2018-11618 Filed 5-31-18; 8:45 am]

BILLING CODE 8011-01-P